SECURITIES AND EXCHANGE COMMISSION

Sunshine Act Meeting

Federal Register Citation of Previous Announcement: [To be announced].

Status: Open meeting/closed meeting.

Place: 450 Fifth Street, NW., Room 6600, Washington, DC.

Date and Time of Previously Announced Meeting: Wednesday, April 30, 2003 at 10 a.m., Thursday, May 1, 2003 at 10 a.m.

Change in the Meeting: Time changes.

The Open Meeting schedule for Wednesday, April 30, 2003 at 10 a.m. has been changed to Wednesday, April 30, 2003 at 9:30 a.m.

The Closed Meeting scheduled for Thursday, May 1, 2003 at 10 a.m. has been changed to Thursday, May 1, 2003 at 3 p.m.

At times, changes in Commission priorities require alterations in the scheduling of meeting items. For further information and to ascertain what, if any, matters have been added, deleted or postponed, please contact the Office of the Secretary at (202) 942-7070.

Dated: April 28, 2003.
Jonathan G. Katz,
Secretary.

[FR Doc. 03-10780 Filed 4-28-03; 2:18 pm]

BILLING CODE 8010-01-P